DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before March 4, 2013.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: George F. Triebsch, Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

(1) An alternative method of achieving the result of such standard exists which will at all times guarantee no less than the same measure of protection afforded the miners of such mine by such standard; or

(2) That the application of such standard to such mine will result in a diminution of safety to the miners in such mine.

In addition, the regulations at 30 CFR 44.10 and 44.11 establish the requirements and procedures for filing petitions for modification.

II. Petitions for Modification

Docket No: M-2013-001-C.

Petitioner: Sterling Mining Corporation, P.O. Box 217, North Lima, Ohio 44452.

Mines: Shean Hill, MSHA I.D. No. 33-04591, located in Jefferson County, Ohio, and Carroll Hollow #6, MSHA I.D. No. 33-04605, located in Carroll County, Ohio.

Regulation Affected: 30 CFR 75.1100-2(b) (Quantity and location of firefighting equipment).

Modification Request: The petitioner requests a modification of the existing standard to permit fire hose outlets and valves required every 300 feet along conveyor belt entries to be maintained at the main waterline located in the common entry adjacent to the conveyor belt entry, rather than projected from the waterline across the entry where the waterline is located and into the crosscut separating the conveyor belt entry from the adjacent entry. The petitioner states that:

1. The alternative location of outlets and valves will be more accessible and will allow the fire hose outlets and valves to be located in an area less likely to be struck by a miner or equipment. This will result in less likelihood of injury to a miner or damage to the outlet and valves before or during their potential use and could make them more likely to function properly in the event they are needed.

2. The existing standard requires waterlines to be installed parallel to the entire length of belt conveyors and be equipped with fire hose outlets with valves at intervals no greater than 300 feet along the conveyors and at tailpieces.

3. The existing standard allows for the waterlines to be installed in entries adjacent to the conveyor belt entry as long as the outlets project into the conveyor belt entry.

4. Currently the waterlines for the mines listed in this petition are maintained in an adjacent common air entry to the beltline. The adjacent entry is the secondary escapeway and most traveled roadway in the mine. The waterline runs along the side of the adjacent entry and against the stopping line separating the neutral belt air course from the return or intake air course, which eliminates the potential of the waterline inhibiting travel between the belt entry and the adjacent roadway.

5. Every 300 feet along the conveyor belt, a 2-inch water pipe is plumbed into the main waterline, projected along the roof above the roadway, and into the crosscut separating the belt and adjacent entries where they are fitted with the proper outlets and valves.

6. Due to the thin coal seam and low mining height, the pipes placed along the roof line result in a hazardous condition where miners could contact a pipe, potentially causing head and neck injuries. The pipes placed along the roof are also at risk of being hit and damaged by equipment, which could cause the damaged pipe and perhaps the entire mine water system to be temporarily inoperative while the damage is being repaired.

7. Placing the outlets and valves at the main waterline rather than projected across the roadway into the crosscut adjacent to the conveyor belt entry will move their location 20 feet from the current location. This move will have no effect on the coverage of the fire protection system and will make the fire outlets and valves more accessible.

8. Travel in the belt entry is relatively difficult. It is only traveled during inspection and maintenance of the conveyor belt entry. Most of the travel is in the adjacent entry common to the conveyor belt entry where the main waterline is located. In the event of a fire in the beltline, the miners who retrieve the fire hose and mobilize to fight the fire will travel the roadway to the necessary outlet and valve.

9. Once the miners have traveled the roadway to the necessary outlet and valve, they will be able to hook up the fire hose in the adjacent entry, and move safely into the conveyor belt entry and begin fighting the fire.

The petitioner asserts that the proposed alternative method will at all times guarantee no less than the same measure of protection as that afforded by the existing standard.

Docket Number: M-2013-001-M.

Petitioner: Specialty Granules (Ione) LLC, 1101 Opal Court, Suite 315, Hagerstown, Maryland 21740.

Mine: Ione Mine, MSHA I.D. No. 04-05533, 1900 Highway 104, Ione, California 95640, located in Amador County, California.

Regulation Affected: 30 CFR 56.13020 (Use of compressed air).

Modification Request: The petitioner requests a modification of the existing standard to permit an alternative method for implementing a clothes cleaning process that uses regulated compressed air for cleaning miners' dust-laden clothing. The petitioner states that:

1. Only miners trained in the operation of the clothes cleaning booth will be permitted to use the booth to clean their clothes.

2. The petitioner will incorporate the NIOSH Clothes Cleaning Process and Manufacturer's Instruction Manuals into their MSHA Part 46 Training Plan and train affected miners in the process.

3. Miners entering the booth will examine valves and nozzles for damage or malfunction and will close the door fully before opening the air valve. Any defects will be repaired prior to the booth being used.

4. Miners entering the booth will wear eye protection; ear plugs or muffs for hearing protection; and, a full-face or half-mask respirator that meets or exceeds the minimum requirements of a N95 filter to which the miner has been fit-tested. As an alternative, the use of a full-face respirator will meet the requirement for eye protection. A sign will be conspicuously posted requiring the use of personal protective equipment when entering the booth.

5. Airflow through the booth will be at least 2,000 cubic feet per minute to maintain negative pressure during use of the cleaning system to prevent contamination of the environment outside the booth. Airflow will be in a downward direction to move contaminants away from the miner's breathing zone.

6. Air pressure through the spray manifold will be limited to 30 pounds per square inch or less. A lock box with a single key controlled by the plant manager will be used to prevent regulator tampering.

7. The air spray manifold will consist of a 1½ inch, square tube with ¼-inch wall thickness capped at the base and actuated by an electrically controlled valve at the top.

8. Air nozzles will not exceed 30 pounds per square inch gauge.

9. The uppermost spray of the spray manifold will be located below the booth users' breathing zone. Some type of mechanical device may be used to cover the upper air nozzles to meet the specific height of the user.

10. Air nozzles will be guarded to eliminate the possibility of incidental contact that could create mechanical damage to the air nozzles during the clothes cleaning process.

11. The petitioner will conduct periodic maintenance checks of the booth according to the recommendations contained in the Manufacturer's Instruction Manual.

12. The air receiver tank supplying air to the manifold system will be of sufficient volume to permit no less than 20 seconds of continuous clothes cleaning time.

13. An appropriate hazard warning sign will be posted on the booth to state, at a minimum, “Compressed Air” and “Respirable Dust”.

14. A pressure relief valve designed for the booth's air reservoir will be installed.

15. The mine will exhaust dust-laden air from the booth into a local exhaust ventilation system or duct outside the facility while ensuring there is no re-entrainment back into the structure.

The petitioner further states that:

1. The alternative method provides a direct reduction of miners' exposure to respirable dust, thus reducing their health risks while providing no less than the same degree of safety provided by the existing standard.

2. The alternative method has been jointly developed between Unimin Corporation and the National Institute for Occupational Safety and Health (NIOSH) and successfully tested by NIOSH.

The petitioner asserts that the proposed alternative method will at all times guarantee no less than the same measure of protection afforded by the existing standard.

Docket Number: M-2013-002-M.

Petitioner: Specialty Granules, Inc., 1101 Opal Court, Suite 315, Hagerstown, Maryland 21740.

Mines: Annapolis Mine, MSHA I.D. No. 23-00288, #1 Hillcrest Drive, Annapolis, Missouri 63620, located in Iron County, Missouri; Charmian Mine, MSHA I.D. No. 36-03460, 1455 Old Waynesboro Road, Blue Ridge Summit, Pennsylvania 17214, located in Franklin County, Pennsylvania; and Kremlin Mine, MSHA I.D. No. 47-00148, 248 Kremlin Road, Pembine, Wisconsin 54156; located in Marinette County, Wisconsin.

Regulation Affected: 30 CFR 56.13020 (Use of compressed air).

Modification Request: The petitioner requests a modification of the existing standard to permit an alternative method for implementing a clothes cleaning process that uses regulated compressed air for cleaning miners' dust-laden clothing. The petitioner states that:

1. Only miners trained in the operation of the clothes cleaning booth will be permitted to use the booth to clean their clothes.

2. The petitioner will incorporate the NIOSH Clothes Cleaning Process and Manufacturer's Instruction Manuals into their MSHA Part 46 Training Plan and train affected miners in the process.

3. Miners entering the booth will examine valves and nozzles for damage or malfunction and will close the door fully before opening the air valve. Any defects will be repaired prior to the booth being used.

4. Miners entering the booth will wear eye protection; ear plugs or muffs for hearing protection; and, a full-face or half-mask respirator that meets or exceeds the minimum requirements of a N95 filter to which the miner has been fit-tested. As an alternative, the use of a full-face respirator will meet the requirement for eye protection. A sign will be conspicuously posted requiring the use of personal protective equipment when entering the booth.

5. Airflow through the booth will be at least 2,000 cubic feet per minute to maintain negative pressure during use of the cleaning system to prevent contamination of the environment outside the booth. Airflow will be in a downward direction to move contaminants away from the miner's breathing zone.

6. Air pressure through the spray manifold will be limited to 30 pounds per square inch or less. A lock box with a single key controlled by the plant manager will be used to prevent regulator tampering.

7. The air spray manifold will consist of a 1½; inch, square tube with ¼-inch wall thickness capped at the base and actuated by an electrically controlled valve at the top.

8. Air nozzles will not exceed 30 pounds per square inch gauge.

9. The uppermost spray of the spray manifold will be located below the booth users' breathing zone. Some type of mechanical device may be used to cover the upper air nozzles to meet the specific height of the user.

10. Air nozzles will be guarded to eliminate the possibility of incidental contact that could create mechanical damage to the air nozzles during the clothes cleaning process.

11. The petitioner will conduct periodic maintenance checks of the booth according to the recommendations contained in the Manufacturer's Instruction Manual.

12. The air receiver tank supplying air to the manifold system will be of sufficient volume to permit no less than 20 seconds of continuous clothes cleaning time.

13. An appropriate hazard warning sign will be posted on the booth to state, at a minimum, “Compressed Air” and “Respirable Dust”.

14. A pressure relief valve designed for the booth's air reservoir will be installed.

15. The mine will exhaust dust-laden air from the booth into a local exhaust ventilation system or duct outside the facility while ensuring there is no re-entrainment back into the structure.

The petitioner further states that:

1. The alternative method provides a direct reduction of miners' exposure to respirable dust, thus reducing their health risks while providing no less than the same degree of safety provided by the existing standard.

2. The alternative method has been jointly developed between Unimin Corporation and the National Institute for Occupational Safety and Health (NIOSH) and successfully tested by NIOSH.

The petitioner asserts that the proposed alternative method will at all times guarantee no less than the same measure of protection afforded by the existing standard.

Dated: January 29, 2013.
George F. Triebsch,
Director, Office of Standards, Regulations and Variances.

[FR Doc. 2013-02190 Filed 1-31-13; 8:45 am]

BILLING CODE 4510-43-P